ENVIRONMENTAL PROTECTION AGENCY

[FRL-6570-6]

Agency Information Collection Activities: Submission for OMB Review; Comment Request; Guidance Manual and Example NPDES Permit for Concentrated Animal Feeding Operations

AGENCY: Environmental Protection Agency (EPA).

ACTION: Notice.

SUMMARY: In compliance with the Paperwork Reduction Act (44 U.S.C. 3501 et seq.), this document announces that the following proposed Information Collection Request (ICR) has been forwarded to the Office of Management and Budget (OMB) for review and approval:

Guidance Manual and Example NPDES Permit for Concentrated Animal Feeding Operations, ICR 1937.01. The ICR describes the nature of the information collection request and its expected burden and cost.

DATES: Comments must be submitted on or before May 3, 2000.

FOR FURTHER INFORMATION CONTACT: For a copy of the ICR contact Sandy Farmer at EPA by phone at (202) 260-2740, by email at farmer.sandy@epa.gov, or download a copy of the ICR off the Internet at http://www.epa.gov/icr and refer to EPA ICR No. 1937.01. For technical questions about the ICR contact Charlotte White by telephone: (202) 260-8559.

SUPPLEMENTARY INFORMATION: Title: Guidance Manual and Example NPDES Permit for Concentrated Animal Feeding Operations (EPA ICR No. 1937.01). This is a new collection.

Abstract: This information collection burden is a result of EPA's issuance of guidance concerning permits issued to concentrated animal feeding operations (CAFOs), which are point sources subject to permitting under the National Pollutant Discharge Elimination System (NPDES). Also affected by the permit guidance provisions are NPDES-authorized States implementing the NPDES permitting program for CAFOs. The animal livestock industry is shifting toward larger facilities and increased potential for water quality impacts. To help address the potential and actual impacts on water quality, the manual provides guidance for permitting agencies regarding the development of effective NPDES permits for CAFOs. Although the guidance does not increase the number of CAFOs subject to permitting under the NPDES permitting program, it recommends the development of a comprehensive nutrient management plan (CNMP) as a special condition of NPDES permits issued to CAFOs. This proposed ICR covers the development of the CNMP, which includes soil and manure sampling; reporting of CNMP development to the permitting authority; and other reporting and record keeping activities that are not described in the current NPDES program guidance for CAFOs. When CNMPs are part of the NPDES permit, the collection of information requirements of the CNMP are mandatory. EPA has authority to undertake the information collection activities under section 308 of the Clean Water Act and under Title 33, sections 1311, 1318, and 1342 of the United States Code. Components of a CNMP typically include: manure handling and storage, land application of manure, land management, recordkeeping, and other utilization options. EPA believes this CNMP will reduce the potential impact that changes in the industry will have on water quality. CNMP data will be used by EPA and States to develop permits, used by the regulated facilities to ensure appropriate land application, and used by the compliance monitoring and enforcement personnel to document NPDES permit compliance. The guidance also recommends that the permittee maintain records concerning manure generation and disposition, and summarize this information on an annual reporting form. Under the guidance, the permittee would also be asked to certify that the facility's CNMP reflects current conditions. EPA needs this information to more fully and effectively implement the requirements of the Clean Water Act, which prohibits the discharge of pollutants from point sources—including discharges from CAFOs—to waters of the United States without an NPDES permit.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on November 19, 1999 (64 FR 63312); no comments were received.

Burden Statement: The annual public reporting and record keeping burden for this collection of information is estimated to average 81 hours per response for CAFO respondents and 2,200 hours for States. Burden means the total time, effort, or financial resources expended by persons to generate, maintain, retain, disclose and provide information to or for a Federal agency. This includes the time needed to: (1) review instructions; (2) develop, acquire, install, and utilize technology and systems for the purposes of collecting, validating, and verifying information, processing and maintaining information, and disclosing and providing information; (3) adjust the existing ways to comply with any previously applicable instructions and requirements; (4) train personnel to be able to respond to a collection of information; (5) search data sources; (6) complete and review the collection of information; and (7) transmit or otherwise disclose the information.

Respondents/Affected Entities: Concentrated animal feeding operations, EPA, and NPDES-authorized States implementing the NPDES permitting program for CAFOs.

Estimated Number of Respondents: 5,529 per year.

Frequency of Response: CAFOs have one time CNMP record keeping and reporting requirements and annual certification reporting requirements. States have annual record keeping requirements.

Estimated Total Annual Hour Burden: 983,205 hours.

Estimated Total Annualized Cost Burden (non-labor costs): $665,373.

Send comments on the Agency's need for this information, the accuracy of the provided burden estimates, and any suggested methods for minimizing respondent burden, including through the use of automated collection techniques to the following addresses. Please refer to EPA ICR No. 1937.01 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: March 28, 2000.
Oscar Morales,
Director, Collection Strategies Division.

[FR Doc. 00-8153 Filed 3-31-00; 8:45 am]

BILLING CODE 6560-50-U